DEPARTMENT OF COMMERCE

National Oceanic and Atmospheric Administration

[RTID 0648-XD531]

North Pacific Fishery Management Council; Public Meetings

AGENCY: National Marine Fisheries Service (NMFS), National Oceanic and Atmospheric Administration (NOAA), Commerce.

ACTION: Notice of hybrid conference. Meetings of the North Pacific Fishery Management Council and its advisory committees.

SUMMARY: The North Pacific Fishery Management Council (Council) and its advisory committees will meet in Anchorage, AK.

DATES: The meetings will be held December 4, 2023 through December 12, 2023.

ADDRESSES: The meetings will be a hybrid conference. The in-person component of the meeting will be held at the Hilton Hotel, 500 W 3rd Ave., Anchorage, AK 99501, or join the meeting online through the links at https://www.npfmc.org/current-or-next-council-meeting/.

Council address: North Pacific Fishery Management Council, 1007 W 3rd Ave., Suite 400, Anchorage, AK 99501-2252; telephone: (907) 271-2809.

Instructions for attending the meeting via web conference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION: The Council's Scientific and Statistical Committee (SSC) will begin at 8 a.m. in the Aleutian room on Monday, December 4, 2023, and continue through Wednesday, December 6, 2023. The Council's Advisory Panel (AP) will begin at 8 a.m. in the Dilingham/Katmai room on Tuesday, December 5, 2023, and continue through Friday, December 8, 2023. The Council will begin at 8 a.m. in the Aleutian room on Thursday, December 7, 2023, and continue through Tuesday, December 12, 2023. The Finance Committee is a closed session and will meet Wednesday, December 6, 2023, from 8 a.m. to 12 p.m.; the Council Executive Session is a closed session and will meet on Wednesday, December 6, 2023, from 1 p.m. to 5 p.m.; both will meet at the North Pacific Fishery Management Council's offices; 1007 W 3rd Ave, Suite 400, Anchorage, AK 99501-2252. The Charter Halibut Management Committee will meet Wednesday, December 6, 2023, from 8 a.m. to 12 p.m. at the North Pacific Fishery Management Council's Conference Room; 1007 W 3rd Ave., Suite 400, Anchorage, AK 99501-2252. All times listed are Alaska Time.

Agenda

Monday, December 4, 2023, Through Wednesday, December 6, 2023

The SSC agenda will include the following issues:

(1) Administrative Issues including Inflation Reduction Act (IRA) funding workplan

(2) Bering Sea Aleutian Islands (BSAI) Groundfish specifications—review Bering Sea (BS) and Aleutian Islands (AI) Ecosystem Status Reports (ESR); Stock Assessment and Fishery Evaluation (SAFE) report; adopt Acceptable Biological Catch (ABC) and Over Fishing Limits (OFLs); Joint Groundfish Plan Team report; BSAI Groundfish Plan Team Report

(3) Gulf of Alaska (GOA) Groundfish specifications;—GOA ESR Report; SAFE report; adopt ABC/OFLs; GOA Plan Team report

(4) BS Fishery Ecosystem Plan (FEP) Climate Change Taskforce (CCTF)—review workplan and report

The agenda is subject to change, and the latest version will be posted at https://meetings.npfmc.org/Meeting/Details/3020 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, December 5, 2023, Through Friday, December 8, 2023

The Advisory Panel agenda will include the following issues:

(1) Administrative Issues

(2) Crab C Share recent participation requirement—Final Action

(3) Crab Facility Use Caps—Final Action

(4) Essential Fish Habitat (EFH) Fishery Management Plan (FMP) amendments—Initial/final action

(5) Crab FMP housekeeping amendment—Initial/final action

(6) GOA Tanner Crab protections—review discussion paper

(7) BS FEP CCTF Taskforce—review workplan and report

(8) BSAI Groundfish specifications—review BS and AI Ecosystem Status Reports; SAFE report; adopt ABC/OFLs; Joint Groundfish Plan Teams report; BSAI Groundfish Plan Team Report

(9) GOA Groundfish specifications;—GOA ESR Report; SAFE report; adopt ABC/OFLs; GOA Plan Team report

(10) 2024 Charter Halibut Management Measures—Final action; committee report

(11) Staff Tasking

Wednesday, December 6, 2023

The Charter Halibut Committee agenda will include: (a) 2024 management measures; (b) scheduling for a future tasking meeting; and (c) other business.

The agenda is subject to change, and the latest version will be posted at https://meetings.npfmc.org/Meeting/Details/3022 prior to the meeting, along with meeting materials.

Thursday, December 7, 2023, Through Tuesday, December 12, 2023

The Council agenda will include the following issues. The Council may take appropriate action on any of the issues identified.

(1) B Reports (Executive Director including CCC update, IRA funding workplan, GOA Pacific cod allocation review, industry reports on 2023 crab avoidance; NMFS Management including Cook Inlet Salmon Secretarial FMP amendment, Final Observer Deployment Plan, year-end in-season management report, Aquaculture Opportunity Areas Request for Information; NOAA General Counsel (GC), NOAA Enforcement; Alaska Department of Fish and Game (ADF&G); United States Coast Guard (USCG); United States Fish and Wildlife Service (USFWS); Advisory Panel and SSC report)

(2) Crab C Share recent participation requirement—Final Action

(3) Crab Facility Use Caps—Final Action

(4) BSAI Groundfish specifications—review BS and AI Ecosystem Status Reports; SAFE report; adopt ABC/OFLs; Joint Groundfish Plan Teams report; BSAI Groundfish Plan Team Report Chum Salmon bycatch—preliminary review

(5) GOA Groundfish specifications;—GOA ESR Report; SAFE report; adopt ABC/OFLs; GOA Plan Team report

(6) EFH FMP amendments—Initial/final action

(7) Crab FMP housekeeping amendment—Initial/final action

(8) 2024 Charter Halibut Management Measures—Final action; committee report

(9) GOA Tanner Crab protections—review discussion paper

(10) BS FEP CCTF Taskforce—review workplan and report

(11) Staff Tasking

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/current-or-next-council-meeting/.

Public Comment

Public comment letters will be accepted and should be submitted electronically through the links at https://www.npfmc.org/current-or-next-council-meeting/. The Council strongly encourages written public comment for this meeting, to avoid any potential for technical difficulties to compromise oral testimony. The written comment period is open from November 10, 2023, to December 1, 2023, and closes at 12 p.m. Alaska Time on Friday, December 1, 2023.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: November 13, 2023.
Rey Israel Marquez,
Acting Deputy Director, Office of Sustainable Fisheries, National Marine Fisheries Service.

[FR Doc. 2023-25359 Filed 11-15-23; 8:45 am]

BILLING CODE 3510-22-P